DEPARTMENT OF COMMERCE

International Trade Administration

[A-560-837, A-475-843, A-557-819, A-791-826, A-469-821, A-723-001, A-823-817]

Prestressed Concrete Steel Wire Strand From Indonesia, Italy, Malaysia, South Africa, Spain, Tunisia, and Ukraine: Postponement of Preliminary Determinations in the Less-Than-Fair-Value Investigations

AGENCY: Enforcement and Compliance, International Trade Administration, Department of Commerce.

DATES: Applicable September 8, 2020.

FOR FURTHER INFORMATION CONTACT: Drew Jackson at (202) 482-4406 (Indonesia), Stephanie Berger at (202) 482-2483 (Italy), Justin Newman at (202) 482-0486 (Malaysia), Jerry Huang at (202) 482-4047 (South Africa), Terre Keaton Stefanova at (202) 482-1280 (Spain), Eva Kim at (202) 482-8283 (Tunisia), and Cindy Robinson at (202) 482-3797 (Ukraine), AD/CVD Operations, Enforcement and Compliance, International Trade Administration, U.S. Department of Commerce, 1401 Constitution Avenue NW, Washington, DC 20230.

SUPPLEMENTARY INFORMATION:

Background

On May 6, 2020, the Department of Commerce (Commerce) initiated less-than-fair-value (LTFV) investigations of imports of prestressed concrete steel wire strand from Indonesia, Italy, Malaysia, South Africa, Spain, Tunisia, and Ukraine.¹ Currently, the preliminary determinations are due no later than September 23, 2020.

¹ See Prestressed Concrete Steel Wire Strand from Argentina, Colombia, Egypt, Indonesia, Italy, Malaysia, the Netherlands, Saudi Arabia, South Africa, Spain, Taiwan, Tunisia, the Republic of Turkey, Ukraine, and the United Arab Emirates: Initiation of Less-Than-Fair-Value Investigations, 85 FR 28605 (May 13, 2020).

Postponement of Preliminary Determinations

Section 733(b)(1)(A) of the Tariff Act of 1930, as amended (the Act), requires Commerce to issue the preliminary determination in a LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 19, 2020, the petitioners ² submitted a timely request that Commerce postpone the preliminary determinations in these LTFV investigations.³ The petitioners stated that they request postponement because the petitioners have identified deficiencies in the questionnaire responses filed on the records of the investigations that must be remedied in advance of the preliminary determinations, and postponing the preliminary determinations allows Commerce to seek clarification on the initial responses and accurately conduct the investigations.⁴

² The petitioners are Insteel Industries Inc.; Mid-South Wire Company; National Wire LLC; Oklahoma Steel & Wire Co.; and Wire Mesh Corp.

³ See Petitioners' Letter, “Prestressed Concrete Steel Wire Strand from Indonesia, Italy, Malaysia, South Africa, Spain, Taiwan, Tunisia, Turkey, and Ukraine—Petitioners' Request to Postpone Preliminary Determinations,” dated August 19, 2020; see also Petitioners' Letters, “Prestressed Concrete Steel Wire Strand from Taiwan—Petitioners' Comments Regarding Chia Ta's Notice of Intent Not to Participate and Withdrawal of Request to Postpone the Preliminary Determination,” dated August 28, 2020; and “Prestressed Concrete Steel Wire Strand From Turkey—Petitioners' Withdrawal of Request to Postpone the Preliminary Determination,” dated August 31, 2020. The petitioners withdrew the request to postpone the preliminary determinations in the investigations of prestressed concrete steel wire strand from Taiwan and the Republic of Turkey.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than November 12, 2020. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: September 1, 2020.
Jeffrey I. Kessler,
Assistant Secretary for Enforcement and Compliance.

[FR Doc. 2020-19786 Filed 9-4-20; 8:45 am]

BILLING CODE 3510-DS-P